DEPARTMENT OF AGRICULTURE

Animal and Plant Health Inspection Service

[Docket No. APHIS-2010-0100]

Environmental Impact Statement; Proposed Cattle Fever Tick Control Barrier in South Texas

AGENCY: Animal and Plant Health Inspection Service, USDA.

ACTION: Notice of availability of a draft environmental impact statement; request for comments.

SUMMARY: We are advising the public that the Animal and Plant Health Inspection Service has prepared a draft environmental impact statement (DEIS) to analyze the effects that may result from installing game fencing as a barrier to keep animals that carry cattle fever ticks and southern cattle ticks out of areas which are free of them and which are beyond the permanent tick quarantine zone in South Texas. We are seeking public comment on the DEIS and our evaluation of the alternatives we have identified as they relate to potential effects on the human environment.

DATES: We will consider all comments that we receive on or before August 30, 2013.

ADDRESSES: You may submit comments by either of the following methods:

• Federal eRulemaking Portal: Go to http://www.regulations.gov/#!documentDetail;D=APHIS-2010-0100-0001.

• Postal Mail/Commercial Delivery: Send your comment to Docket No. APHIS-2010-0100, Regulatory Analysis and Development, PPD, APHIS, Station 3A-03.8, 4700 River Road Unit 118, Riverdale, MD 20737-1238.

Supporting documents and any comments we receive on this docket may be viewed at http://www.regulations.gov/#!docketDetail;D=APHIS-2010-0100 or in our reading Room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For questions related to the Cattle Fever Tick Eradication Program, contact Dr. Matthew T. Messenger, Staff Entomologist, Cattle Fever Tick Eradication Program Manager, Ruminant Health Programs, VS, APHIS, 4700 River Road Unit 43, Riverdale, MD 20737; (301) 851-3421. For questions related to the DEIS, contact Ms. Michelle Gray, Environmental Protection Specialist, Environmental and Risk Analysis Services, PPD, APHIS, 4700 River Road Unit 149, Riverdale, MD 20737; (301) 851-3146.

SUPPLEMENTARY INFORMATION:

Background

The Cattle Fever Tick Eradication Program is a cooperative effort between the Animal and Plant Health Inspection Service (APHIS) of the U.S. Department of Agriculture (USDA) and the Texas Animal Health Commission. The program was established to eliminate bovine babesiosis, a severe and often fatal cattle disease, from the U.S. cattle population. Cattle fever ticks Rhipicephalus (Boophilus) annulatus, and southern cattle ticks (R. (B.) microplus) (collectively referred to as “cattle fever ticks”) carry protozoan parasites that cause babesiosis. The disease and the cattle fever ticks were officially eradicated from the continental United States in 1943, with the exception of a permanent tick quarantine zone extending more than 500 miles along the Rio Grande from Del Rio to Brownsville, TX.

Efforts to control cattle fever ticks along the permanent tick quarantine zone include vigilant surveillance and inspection for tick-infested cattle and wildlife, acaricide dip or spray treatment of livestock (primarily cattle and horses), and pasture vacation (temporary removal of cattle from infected pastures) to help protect cattle from potential exposure to the pathogen that can be transmitted by cattle fever ticks. However, an increasing number of cattle fever tick outbreaks have occurred outside the permanent tick quarantine zone in four of the eight Texas counties through which the zone passes: Maverick, Starr, Webb, and Zapata. The increase in outbreaks is attributed to numerous factors, including the free movement of deer and stray livestock carrying cattle fever ticks across the U.S.-Mexico border and an increase in the overall deer population, which serves as a reservoir for the disease. These outbreaks, which cause lengthy quarantine restrictions and increased herd management efforts and expenses to cattle producers within the tick-free zone, prompted us to explore additional control methods for cattle fever ticks. Subsequently, we determined that game fencing could help prevent the spread of cattle fever ticks to U.S. cattle populations from free-ranging tick hosts, thereby serving as another tool towards cattle fever tick eradication and control efforts.

On February 15, 2011, we published in the Federal Register (76 FR 8709-8710, Docket No. APHIS-2010-0100) a notice of intent to prepare an environmental impact statement (EIS) to examine the potential environmental and health effects of erecting such fencing. We solicited comments for 30 days ending on March 17, 2011. We used the comments we received to help us develop the scope, potential alternatives, and environmental impacts or issues that should be considered for further examination in the draft EIS (DEIS). The action being considered by APHIS is whether to contribute funding toward installation of game fencing, with landowner consent and cost-share agreement, on privately owned property to prevent the spread of cattle fever ticks via the free movement of deer and other tick hosts into the permanent tick quarantine zone. In the DEIS, APHIS considered potential significant environmental effects on the quality of the human environment caused by contributing funding toward the installation of game fencing by landowners in Maverick, Starr, Webb, and Zapata Counties along the Permanent Tick Quarantine Line.

APHIS prepared this DEIS in accordance with (1) the National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

We evaluated two alternatives in the DEIS:

Take no action. Under this alternative, APHIS would provide no funding toward the installation of game fencing to close gaps existing in game-fenced areas in Maverick County, TX, or in rural areas of Starr, Webb, and Zapata Counties, TX, to prevent the spread of cattle fever ticks via the free movement of white-tailed deer and other tick hosts into the permanent tick quarantine zone. This alternative represents the baseline against which a proposed action may be compared and involves no changes to the current situation.

Provide funding assistance to install game fencing in Maverick, Starr, Webb, and Zapata Counties, TX. Under this alternative, APHIS would contribute partial funding toward the installation of game fencing on privately owned property in rural locations in Maverick, Starr, Webb, and Zapata Counties, TX, only upon landowner agreement, where recurring cattle fever tick infestations are problematic. APHIS would be flexible and determine the most logical placement of game fencing on a landowner's property based upon the facts and circumstances of the particular situation and location. APHIS would not contribute funding toward game fencing that would be located in wetlands or that would obstruct arroyos or streams, nor would APHIS contribute funding toward fencing that would obstruct public or private access roads or driveways. Any APHIS agreement providing funds to a landowner would require concurrence with these conditions.

In the DEIS, we evaluated both alternatives for their impacts on soil, air quality, water quality, livestock health, human health and safety, vegetation, wildlife, and cultural, historic, and visual resources.

We welcome comments on all of the issues presented in the DEIS and particularly on issues related to the alternatives outlined above.

Done in Washington, DC, this 18th day of July 2013.
Michael C. Gregoire,
Acting Administrator, Animal and Plant Health Inspection Service.

[FR Doc. 2013-17804 Filed 7-23-13; 8:45 am]

BILLING CODE 3410-34-P